DEPARTMENT OF HEALTH AND HUMAN SERVICES

National Institutes of Health

Center for Scientific Review; Amended Notice of Meeting

Notice is hereby given of a change in the meeting of the Cancer Molecular Pathobiology Study Section, June 4, 2006, 6 p.m. to June 6, 2006 8 p.m. The Sheraton Suites Alexandria, 801 North Asaph Street, Alexandria, VA 22314 which was published in the Federal Register on May 11, 2006, 71 FR 27505-27507.

The meeting will be held June 5, 2006, 8 a.m. to June 6, 2006, 5 p.m. The meeting location remains the same. The meeting is closed to the public.

Dated: May 17, 2006.
Anna Snouffer,
Acting Director, Office of Federal Advisory Committee Policy.

[FR Doc. 06-4782 Filed 5-22-06; 8:45 am]

BILLING CODE 4140-01-M